DEPARTMENT OF LABOR

Office of the Secretary

Agency Information Collection Activities; Submission for OMB Review; Comment Request; Linking Employment Activities Pre-Release Evaluation

ACTION: Notice.

SUMMARY: The Department of Labor (DOL) is submitting the information collection request (ICR) proposal titled, “Linking Employment Activities Pre-Release Evaluation” to the Office of Management and Budget (OMB) for review and approval for use in accordance with the Paperwork Reduction Act (PRA) of 1995 (44 U.S.C. 3501 et seq.). Public comments on the ICR are invited.

DATES: The OMB will consider all written comments that agency receives on or before October 11, 2016.

ADDRESSES: A copy of this ICR with applicable supporting documentation; including a description of the likely respondents, proposed frequency of response, and estimated total burden may be obtained free of charge from the RegInfo.gov Web site at http://www.reginfo.gov/public/do/PRAViewICR?ref_nbr=201603-1291-001 (this link will only become active on the day following publication of this notice) or by contacting Michel Smyth by telephone at 202-693-4129 (this is not a toll-free number) or by email at DOL_PRA_PUBLIC@dol.gov.

Submit comments about this request by mail or courier to the Office of Information and Regulatory Affairs, Attn: OMB Desk Officer for DOL-OASAM, Office of Management and Budget, Room 10235, 725 17th Street, NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: This ICR seeks PRA authority for the information collection activities needed to conduct an implementation evaluation of the Linking to Employment Activities Pre-Release (LEAP) program. The DOL has provided $10 million to 20 grantees to develop programs that strengthen ties between the public workforce system and local correctional facilities by establishing satellite American Job Centers in local jails to bridge the gap between pre and post release employment services. More specifically, this ICR seeks approval for three data collection instruments that will be used in the LEAP implementation evaluation: (1) Site visit protocols for visits that will each last two days and involve one-on-one semi-structured interviews with facility and community-based program administrators, focus groups, and observations of program activities and reviews of a small sample of case files; (2) focus group protocols the evaluation team will use in conducting three focus groups per site; and (3) respondent information forms on which each staff or program participant respondent will provide demographic characteristics and other relevant information to aid in the interpretation and comparison of focus group findings across sites and time periods. The DOL seeks clearance only for these three data collection activities. Should the DOL decide to undertake an impact evaluation for the LEAP grant program, a separate ICR will be submitted for OMB approval under the PRA. The public would have an opportunity to comment on that request. Workforce Investment Act section 172 authorizes this information collection. See 29 U.S.C. 2917.

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional information, see the related notice published in the Federal Register on December 23, 2015 (80 FR 79936).

Interested parties are encouraged to send comments to the OMB, Office of Information and Regulatory Affairs at the address shown in the ADDRESSES section within thirty (30) days of publication of this notice in the Federal Register. In order to help ensure appropriate consideration, comments should mention OMB ICR Reference Number 201603-1291-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OASAM.

Title of Collection: Linking Employment Activities Pre-Release Evaluation.

OMB ICR Reference Number: 201603-1291-001.

Affected Public: Individuals or Households; Private Sector—businesses or other for-profits and not-for-profit institutions.

Total Estimated Number of Respondents: 577.

Total Estimated Number of Responses: 577.

Total Estimated Annual Time Burden: 420 hours.

Total Estimated Annual Other Costs Burden: $0.

Dated: September 1, 2016.
Michel Smyth,
Departmental Clearance Officer.

[FR Doc. 2016-21622 Filed 9-7-16; 8:45 am]

BILLING CODE 4510-HX-P